ENVIRONMENTAL PROTECTION AGENCY

40 CFR Part 300

[EPA-HQ-OLEM-2022-0319; EPA-HQ-OLEM-2022-0527; EPA-HQ-OLEM-2022-0579; FRL-10632-02-OLEM]

Deletion From the National Priorities List

AGENCY: Environmental Protection Agency (EPA).

ACTION: Final rule.

SUMMARY: The Environmental Protection Agency (EPA) announces the deletion of one site and the partial deletion of two sites from the Superfund National Priorities List (NPL). The NPL, created under the Comprehensive Environmental Response, Compensation, and Liability Act (CERCLA) of 1980, as amended, is an appendix of the National Oil and Hazardous Substances Pollution Contingency Plan (NCP). The EPA and the states, through their designated state agencies, have determined that all appropriate response actions under CERCLA have been completed. However, this deletion does not preclude future actions under Superfund.

DATES: The document is effective February 22, 2023.

ADDRESSES: Docket: EPA has established a docket for this action under the Docket Identification included in Table 1 in the SUPPLEMENTARY INFORMATION section of this document. All documents in the docket are listed on the https://www.regulations.gov website. The Final Close-Out Report (FCOR, for a full site deletion) or the Partial Deletion Justification (PDJ, for a partial site deletion) is the primary document which summarizes site information to support the deletion. It is typically written for a broad, non-technical audience and this document is included in the deletion docket for each of the sites in this rulemaking. Although listed in the index, some information is not publicly available, i.e., Confidential Business Information or other information whose disclosure is restricted by statute. Certain other material, such as copyrighted material, is not placed on the internet and will be publicly available only in hard copy form. Docket materials are available through https://www.regulations.gov or at the corresponding Regional Records Centers. Locations, addresses, and phone numbers of the Regional Records Center follows.

• Region 4 (AL, FL, GA, KY, MS, NC, SC, TN), U.S. EPA, 61 Forsyth Street SW, Mail code 9T25, Atlanta, GA 30303.

• Region 5 (IL, IN, MI, MN, OH, WI), U.S. EPA Superfund Division Records Manager, Mail code SRC-7J, Metcalfe Federal Building, 7th Floor South, 77 West Jackson Boulevard, Chicago, IL 60604; 312/886-4465.

• Region 6 (AR, LA, NM, OK, TX), US EPA Region 6 Records Center 1201 Elm St., Suite 500, Dallas, TX 75270; 214/665-7544.

• EPA Headquarters Docket Center Reading Room (deletion dockets for all states), William Jefferson Clinton (WJC) West Building, Room 3334, 1301 Constitution Avenue NW, Washington, DC 20004, (202) 566-1744.

EPA staff listed below in the FOR FURTHER INFORMATION CONTACT section may assist the public in answering inquiries about deleted sites and accessing deletion support documentation, determining whether there are additional physical deletion dockets available, or if COVID restrictions affect deletion docket access.

The EPA continues to carefully and continuously monitor information from the Centers for Disease Control and Prevention (CDC), local area health departments, and our federal partners so that we can respond rapidly as conditions change regarding COVID.

FOR FURTHER INFORMATION CONTACT:

• Leigh Lattimore, U.S. EPA Region 4 (AL, FL, GA, KY, MS, NC, SC, TN), lattimore.leigh@epa.gov, 404/562-8768.

• Karen Cibulskis, U.S. EPA Region 5 (IL, IN, MI, MN, OH, WI), cibulskis.karen@epa.gov, 312/886-1843.

• Brian Mueller, U.S. EPA Region 6 (AR, LA, NM, OK, TX), mueller.brian@epa.gov, 214/665-7167.

• Charles Sands, U.S. EPA Headquarters, sands.charles@epa.gov, 202-566-1142.

SUPPLEMENTARY INFORMATION: The NPL, created under section 105 of CERCLA, as amended, is an appendix of the NCP. The NCP establishes the criteria that EPA uses to delete sites from the NPL. In accordance with 40 CFR 300.425(e), sites may be deleted from the NPL where no further response is appropriate. Partial deletion of sites is in accordance with 40 CFR 300.425(e) and are consistent with the Notice of Policy Change: Partial Deletion of Sites Listed on the National Priorities List, 60 FR 55466, (November 1, 1995). The sites to be deleted are listed in Table 1, including docket information containing reference documents with the rationale and data principally relied upon by the EPA to determine that the Superfund response is complete. The NCP permits activities to occur at a deleted site, or that media or parcel of a partially deleted site, including operation and maintenance of the remedy, monitoring, and five-year reviews. These activities for the site are entered in Table 1 in this SUPPLEMENTARY INFORMATION section, if applicable, under Footnote such that; 1= site has continued operation and maintenance of the remedy, 2= site receives continued monitoring, and 3= site five-year reviews are conducted. As described in 40 CFR 300.425(e)(3) of the NCP, a site or portion of a site deleted from the NPL remains eligible for Fund-financed remedial action if future conditions warrant such actions.

Table 1
Site name | City/county, state | Type | Docket No. | Footnote
U.S. Finishing/Cone Mills | Greenville, SC | Partial | EPA-HQ-OLEM-2022-0579
Wauconda Sand & Gravel | Wauconda, IL | Partial | EPA-HQ-OLEM-2022-0319 | 1,2,3
River City Metal Finishing | San Antonio, TX | Full | EPA-HQ-OLEM-2022-0527

Information concerning the sites to be deleted and partially deleted from the NPL, the proposed rule for the deletion and partial deletion of the sites, and information on receipt of public comment(s) and preparation of a Responsiveness Summary (if applicable) are included in Table 2.

Table 2
Site name | Date, proposed rule | FR citation | Public comment | Responsiveness summary | Full site deletion (full) or media/parcels/description for partial deletion
U.S. Finishing/Cone Mills | 8/17/2022 | 87 FR 50596 | No | No | 70-acres of Operable Unit 1 Main Facility which includes soil, surface water, and sediment.
Wauconda Sand & Gravel | 8/17/2022 | 87 FR 50596 | No | No | Approximately 76-acres of soil.
River City Metal Finishing | 8/17/2022 | 87 FR 50596 | Yes | Yes | Full.

For the sites proposed for deletion, the closing date for comments in the proposed rule was September 16, 2022. The EPA received two public comments on the River City Metal Finishing site in this final rule. EPA placed the comments in the docket specified in Table 1, on https://www.regulations.gov, and in the appropriate Regional Records Center listed in the ADDRESSES section. One public comment was not germane to the proposed rulemaking. The second commentor believes CERCLA gives no guarantee that harm will not be done to public health again in the future at the site. The commenter believes if a site is no longer considered to be a hazard, it should be noted that it was once classified as a priority and ranked lower overall on the NPL rather than deleted from the NPL. In response, no hazardous substances, pollutants, or contaminants remain at the Site above levels that preclude unlimited use and unrestricted exposure. This means that under the current and future residential, commercial, and industrial land use scenarios, the site poses no unacceptable risks to human health and the environment. Thus, EPA concluded that no action is warranted under CERCLA, and the site can be deleted from the NPL.

The deletion criteria for the Site have been met. A Responsiveness Summary was prepared and placed in the site deletion docket, EPA-HQ-OLEM-2022-0527 on https://www.regulations.gov, and in the appropriate Regional Records Centers listed in the ADDRESSES section.

For all other sites not specified above, no adverse comments were received.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous substances, Hazardous waste, Intergovernmental relations, Natural resources, Oil pollution, Penalties, Reporting and recordkeeping requirements, Superfund, Water pollution control, Water supply.

Larry Douchand,
Office Director, Office of Superfund Remediation and Technology Innovation.

For reasons set out in the preamble, the EPA amends 40 CFR part 300 as follows:

PART 300—NATIONAL OIL AND HAZARDOUS SUBSTANCES POLLUTION CONTINGENCY PLAN

1. The authority citation for part 300 continues to read as follows:

Authority: 33 U.S.C. 1251 et seq.; 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. In Appendix B to part 300 amend Table 1 by:

a. Revising the entry for “IL”, “Wauconda Sand & Gravel”, “Wauconda”;

b. Removing the entry for “TX”, “River City Metal Finishing”, “San Antonio”.

The revision reads as follows:

Appendix B to Part 300—National Priorities List

Table 1—General Superfund Section
State | Site name | City/county | Notes (a)
* * * * * * *
IL | Wauconda Sand & Gravel | Wauconda | P
* * * * * * *
* P = Sites with partial deletion(s).

[FR Doc. 2023-03147 Filed 2-21-23; 8:45 am]

BILLING CODE 6560-50-P